ENVIRONMENTAL PROTECTION AGENCY

[FRL-6911-3]

Agency Information Collection Activities: Submission for OMB Review; Comment Request, Protection of Stratospheric Ozone—Phaseout Regulation

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Record Keeping and Periodic Reporting of the Production, Import, Recycling, Destruction, Transshipment and Feedstock Use of Ozone-Depleting Substances, OMB Number 2060-0170; with an extended expiration date of January 31, 2001. The ICR describes the nature of the information collection and its expected burden and cost; where appropriate, it includes the actual data collection instrument.

DATES: Comments must be submitted on or before January 3, 2001.

ADDRESSES: Send comments, referencing EPA ICR No. 1432.18 and OMB Control No. 2060-0170, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer.sandy@epamail.epa.gov, or download off the Internet at http://www.epa.gov/icr and refer to EPA ICR No. 1432.18. For technical questions about the ICR contact Tom Land, Global Programs Division (6205J), telephone (202) 564-9185, facsimile (202) 565-2093, e-mail: land.tom@epa.gov.

SUPPLEMENTARY INFORMATION: Title: Record Keeping and Periodic Reporting of the Production, Import, Recycling, Destruction, Transshipment and Feedstock Use of Ozone-Depleting Substances, EPA ICR Number 1432.18; OMB Number 2060-0170; with an extended expiration date of January 31, 2001. This is a request for extension of a currently approved collection.

Abstract: The Montreal Protocol on Substances that Deplete the Ozone Layer (Protocol) and Title VI of the Clean Air Act (CAA) establish limits on total U.S. production, import and export of class I and class II controlled ozone-depleting substances. To ensure U.S. compliance with the limits and restrictions established by the Protocol and the CAA, the regulation establishes control measures for individual companies. The limits and restrictions for individual U.S. companies are monitored by EPA through the reporting requirements established in the regulation under 40 CFR part 82, subpart A. The regulation outlines both recordkeeping and reporting requirements. These reporting requirements are designed: (1) To satisfy U.S. obligations under the international treaty, the Montreal Protocol on Substances that Deplete the Ozone Layer, in particular the requirements under Article 7 of the Protocol; (2) to fulfill statutory obligations under section 603(b) of Title VI of the CAA; (3) to report to Congress on the production, use and consumption of class I and class II controlled substances as statutorily required in section 603(d) of the CAA; and (4) to address Federal and industry concerns regarding illegal imports of newly produced and previously used controlled substances that are undercutting the U.S. markets for alternatives.

Pursuant to regulations 40 CFR part 2, subpart B, you are entitled to assert a business confidentiality claim covering any part of the submitted business information as defined in 40 CFR 2.201(c). An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on September 6, 2000, (65 FR 53999) and no comments were received.

Burden Statement: The annual public reporting and recordkeeping burden for this collection of information is estimated to average 5.35 hours per response. EPA is concurrently working on many rules that will revise the recordkeeping and reporting under the regulations in 40 CFR part 82, subpart A in separate rulemakings with revisions to the ICR. In addition, EPA is in the process of reflecting these many revisions in a changed Guidance Document For The Stratospheric Ozone Protection Program on reporting (including reporting forms) and making them available electronically and creating a secure system for the direct submission of electronic reporting.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Users of Ozone-Depleting Substances.

Estimated Number of Respondents: 1,081.

Frequency of Response: On occasion, Quarterly, Annually.

Estimated Total Annual Hour Burden: 6,492.

Estimated Total Annualized Capital, O&M Cost Burden: $3,032.

Send comments on the Agency's need for this information, the accuracy of the provided burden estimates, and any suggested methods for minimizing respondent burden, including through the use of automated collection techniques to the addresses listed above. Please refer to EPA ICR No. 1432.18 and OMB Control No. 2060-0170 in any correspondence.

Dated: November 28, 2000.
Oscar Morales,
Director, Collection Strategies Division.

[FR Doc. 00-30806 Filed 12-1-00; 8:45 am]

BILLING CODE 6560-50-P